DEPARTMENT OF COMMERCE

Business Development Mission to Brazil

AGENCY: Department of Commerce.

ACTION: Notice to Announce Business Development Mission to Brazil, November 9-13, 2003.

SUMMARY: Deputy Secretary of Commerce Samuel W. Bodman, and Assistant Secretary of Commerce for Market Access and Compliance William Lash, will lead a senior-level business development mission to Sao Paulo, Brasilia and Recife, Brazil from November 9-13, 2003. The focus of the mission will be to help U.S. companies explore trade and investment opportunities in Brazil. The delegation will include approximately 10-15 U.S.-based senior executives of small, medium and large U.S. firms representing, but not limited to, technology, equipment, and services in the following key growth sectors: infrastructure (port, rail, construction), information technology, security, agribusiness and biotechnology.

DATES: Applications should be submitted to the Office of Business Liaison by October 3, 2003. Applications received after that date will be considered only if space and scheduling constraints permit.

FOR FURTHER INFORMATION CONTACT: Office of Business Liaison; Room 5062; Department of Commerce; Washington, DC 20230; Tel: (202) 482-1360; Fax: (202) 482-4054.

SUPPLEMENTARY INFORMATION:

Business Development Mission to Brazil

November 9-13, 2003

I. Description of the Mission

Deputy Secretary of Commerce Samuel W. Bodman, and Assistant Secretary of Commerce for Market Access and Compliance William Lash, will lead a senior-level business development mission to Sao Paulo, Brasilia and Recife, Brazil from November 9-13, 2003. The focus of the mission will be to help U.S. companies explore trade and investment opportunities in Brazil. The delegation will include approximately 10-15 U.S.-based senior executives of small, medium and large U.S. firms representing, but not limited to, technology, equipment, and services in the following key growth sectors: infrastructure (port, rail, construction), information technology, security, agribusiness and biotechnology.

II. Commercial Setting for the Mission

Brazil is the largest market in the Western Hemisphere after the United States, with 180 million people and a GDP of over $450 billion. Total trade between the United States and Brazil has held steady at about $30 billion per year. In 2002, Brazil had a $13 billion surplus with the world ($3.4 billion with the U.S.) as a result of an aggressive export strategy, relatively favorable exchange rate regime, and strong agricultural exports.

Brazil offers substantial opportunities for U.S. firms due to the sheer size and sophistication of its internal market. Developing Brazil's infrastructure is a priority for the Lula Administration, and is key to modernizing the underdeveloped Northeast region of the country, as well as furthering efficiency in the Brazil's industrial zones. The Brazilian federal government and many individual states are moving forward on a variety of infrastructure development projects backed by multilateral lending institutions, focusing on transportation and construction. Development of Brazil's technology sector—both information technology and biotechnology—is another priority for the Lula government. Strong links between the research and industry communities offer a wealth of business opportunities across the country. Brazil also has advanced genetic and biotechnology research sectors with a focus on agriculture and agribusiness.

The financial situation in Brazil has greatly improved since last year's Presidential elections. The new administration immediately set out to calm the markets by vowing to maintain strict fiscal policies, fulfill Brazil's debt obligations, promote economic growth, and install pro-business officials in his cabinet. Although high interest rates have dampened internal investment, the Lula Administration has created a solid economic climate by holding inflation in check, reforming part of the tax code, and working to reduce bureaucracy in international trade.

III. Goals for the Mission

The mission will further U.S. commercial policy objectives, and advance specific U.S. business interests. It is intended to:

• Assist individual U.S. companies to pursue export and other new business opportunities in Brazil by introducing them to key government decision-making officials and potential business partners;

• Evaluate the market potential for the company's products and assist firms in gaining an understanding of how to operate successfully in Brazil's commercial environment;

• Enhance the dialogue between government and industry on issues affecting U.S.-Brazil commercial relations, and build upon the pro-growth agenda launched during the Summit between President Bush and Brazilian President Lula; and

• Promote the benefits of economic growth through liberalized trade and investment policies, especially in the underdeveloped Northeast region of Brazil.

IV. Scenario for the Mission

The Business Development Mission will provide participants with exposure to high-level business and government contacts and an understanding of market trends and the commercial environment. American Embassy officials will provide a detailed briefing on the economic, commercial and political climate, and participants will receive individual counseling on their specific interests from the in-country U.S. Commercial Service industry specialists. Meetings will be arranged as appropriate with senior government officials and potential business partners. Representational events also will be organized to provide mission participants with opportunities to meet Brazil's business and government representatives, as well as U.S. business people living and working in Brazil.

The tentative trip itinerary will be as follows:

November 9—Arrive Brasilia; Mission Begins

November 10—Meetings with the Brazilian Government

November 11—Travel to Recife for Business Meetings

November 12—Travel to Sao Paulo for Business Meetings

November 13—Business Meetings in Sao Paulo; Mission Concludes

V. Criteria for Participation of Companies

The recruitment and selection of private sector participants for this mission will be conducted according to the “Statement of Policy Governing Department of Commerce-Overseas Trade Missions” established in March 1997. Approximately 10-15 companies will be selected for the mission. Companies will be selected according to the criteria set out below.

Eligibility

Applicants must be: (1) incorporated in the United States; and (2) the products and/or services that it will promote (a) must be manufactured or produced in the United States; or (b) if manufactured or produced outside the United States, must be marketed under the name of a U.S. firm and have U.S. content representing at least 51 percent of the value of the finished good or service.

Selection Criteria

Companies will be selected for participation in the mission on the basis of:

• Consistency of company's goals with the scope and desired outcome of the mission as described herein;

• Relevance of a company's business and product line to market opportunities in Brazil;

• Rank of the designated company representative;

• Past, present, or prospective international business activity;

• Diversity of company size, type, location, demographics, and traditional under-representation in business;

• Degree of company's commitment to good corporate citizenship; and

• Timely receipt of signed mission application, participation agreement, and participation fee.

Recruitment will begin immediately and will be conducted in an open and public manner, including publication in the Federal Register, posting on the Commerce Department trade missions calendar— http://www.ita.doc.gov/doctm/tmcal.html—and other Internet websites, press releases to the general and trade media. Promotion of the mission will also take place through the involvement of U.S. Export Assistance Centers and relevant trade associations.

An applicant's partisan political activities (including political contributions) are irrelevant to the selection process.

VI. Time Frame for Applications

Applications for the trade mission to Brazil will be made available on or about September 4, 2003. The fee to participate in the mission has not yet been determined, but will be approximately $5,000 to $8,000. The participation fee will not cover travel to and from Brazil or lodging expenses; these will be the responsibility of each mission participant. For additional information on the trade mission or to obtain an application, contact the Office of Business Liaison at (202) 482-1360. Applications should be submitted by October 3, 2003, in order to ensure sufficient time to obtain in-country appointments for applicants selected to participate in the mission. Applications received after that date will be considered only if space and scheduling constraints permit. A mission website will be posted at http://www.commerce.gov/brazilmission2003 to share information as it becomes available. Contact: Office of Business Liaison, Room 5062, Department of Commerce, Washington, DC 20230, Tel: (202) 482-1360 Fax: (202) 482-4054, e-mail: obl@doc.gov, http://www.commerce.gov/brazilmission2003.

Dated: September 2, 2003.
Dan McCardell,
Director, Office of Business Liaison, Room 5062, Department of Commerce.

[FR Doc. 03-22716 Filed 9-5-03; 8:45 am]

BILLING CODE 3510-D-R-P